DEPARTMENT OF LABOR

Employment and Training Administration

[TA-W-37,571 and TA-W-37,517A]

Rugged Sportswear, Siler City, NC and Walstonburg, NC; Amended Certification Regarding Eligibility To Apply for Worker Adjustment Assistance

In accordance with section 223 of the Trade Act of 1974 (19 U.S.C. 2273) the Department of Labor issued a Certification of Eligibility to Apply for Worker Adjustment Assistance on May 30, 2000, applicable to workers of Rugged Sportswear, Siler City, North Carolina. The notice was published in the Federal Register on June 29, 2000 (65 FR 40134).

At the request of the company, the Department reviewed the certification for workers of the subject firm. New findings show that worker separations occurred at subject firms' Walstonburg, North Carolina facility when it closed in October, 2000. The workers were engaged in the production of sweat shirts, sweat pants and sweat shorts.

Accordingly, the Department is amending the certification to include the workers at the Walstonburg, North Carolina location of Rugged Sportswear. The intent of the Department's certification is to include 11 workers of Rugged Sportswear who were adversely affected by increased imports.

The amended notice applicable to TA-W-37,571 is hereby issued as follows:

All workers of Rugged Sportswear, Siler City, North Carolina (TA-W-37,571) and Walstonburg, North Carolina (TA-W-37,571A) who became totally or partially separated from employment on or after March 31, 1999 through May 30, 2002 are eligible to apply for adjustment assistance under Section 223 of the Trade Act of 1974.

Signed at Washington DC this 15th day of December, 2000.
Linda G. Poole,
Certifying Officer, Division of Trade Adjustment Assistance.

[FR Doc. 00-33067 Filed 12-27-00; 8:45 am]

BILLING CODE 4510-30-M